DEPARTMENT OF TRANSPORTATION

Federal Aviation Administration

14 CFR Part 95

[Docket No. 31615; Amdt. No. 586]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, August 07, 2025.

FOR FURTHER INFORMATION CONTACT: Romana B. Wolf, Manager, Flight Procedures and Airspace Group, Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on July 7, 2024.
Romana B. Wolf,
Manager, Flight Procedures and Airspace Group, Flight Technologies and Procedures Division, Office of Safety Standards, Flight Standards Service, Aviation Safety, Federal Aviation Administration.

Accordingly, pursuant to the authority delegated to me by the Administrator, part 95 of the Federal Aviation Regulations (14 CFR part 95) is amended as follows:

PART 95—IFR ALTITUDES

1. The authority citation for part 95 continues to read as follows:

Authority: 49 U.S.C. 106(g), 40103, 40113 and 14 CFR 11.49(b)(2).

2. Part 95 is amended as follows:

Revisions to IFR Altitudes & Changeover Point
[Amendment 586 effective date August 07, 2025]
From | To | MEA
§ 95.0040 Colored Federal Airways
§ 95.5 Green Federal Airway G10 Is Amended To Delete
WOODY ISLAND, AK NDB | KACHEMAK, AK NDB | 6000 MAA-17500
§ 95.5 Green Federal Airway G12 Is Amended To Delete
PORT HEIDEN, AK NDB/DME | CHINOOK, AK NDB | 2500 MAA-17500
§ 95.4 Green Federal Airway G8 Is Amended To Delete
ELFEE, AK NDB | CRACK, AK FIX | * 5000
* 4100-MOCA |  | MAA-17500
CRACK, AK FIX | CHINOOK, AK NDB | * 3000
* 2300-MOCA |  | MAA-17500
CHINOOK, AK NDB | NOSKY, AK FIX | * 6000
* 4900-MOCA |  | MAA-17500
NOSKY, AK FIX | KACHEMAK, AK NDB | 6100
|  | MAA-17500
§ 95.11 Amber Federal Airway A16 Is Amended To Delete
ACTIVE PASS, CA NDB | WHITE ROCK, CA NDB | * 3000
* 2100-MOCA |  | MAA-17500
* FOR THAT AIRSPACE OVER U.S. TERRITORY
§ 95.2 Red Federal Airway R99 Is Amended by Adding
DUTCH HARBOR, AK NDB/DME | ST PAUL ISLAND, AK NDB/DME | * 4800 MAA-17500
* HF COMMS REQUIRED BELOW 8000 MSL
Is Amended To Delete
ST PAUL ISLAND, AK NDB/DME | DUTCH HARBOR, AK NDB/DME | * 4800 MAA-17500
* HF COMMS REQUIRED BELOW 8000 MSL
DUTCH HARBOR, AK NDB/DME | CHINOOK, AK NDB | * 9000
* 6300-MOCA |  | MAA-17500
CHINOOK, AK NDB | ILIAMNA, AK NDB/DME | * 5000
* 4400-MOCA |  | MAA-17500
ILIAMNA, AK NDB/DME | KACHEMAK, AK NDB | 6100 MAA-17500
§ 95.6 Blue Federal Airway B27 Is Amended To Delete
WOODY ISLAND, AK NDB | CHINOOK, AK NDB | 10000 MAA-17500
CHINOOK, AK NDB | WANIX, AK FIX | * 8000
* 7500-MOCA |  | MAA-17500
WANIX, AK FIX | OSCARVILLE, AK NDB
| NW BND | 4000
| SE BND | 8000 MAA-17500
OSCARVILLE, AK NDB | ST MARYS, AK NDB | 3000 MAA-17500
ST MARYS, AK NDB | FORT DAVIS, AK NDB | 3000 MAA-17500
FORT DAVIS, AK NDB | HOTHAM, AK NDB | 6000 MAA-17500

From | To | MEA | MAA
§ 95.3000 Low Altitude RNAV Routes
§ 95.3220 RNAV Route T220 Is Amended by Adding
MARCS, TX FIX | CRAYS, TX WP | 2400 | 17500
CRAYS, TX WP | MEESO, TX WP | 2600 | 17500
MEESO, TX WP | MNURE, TX WP | 2300 | 17500
MNURE, TX WP | SEALY, TX WP | 2100 | 17500
Is Amended To Delete
INDUSTRY, TX VORTAC | SEALY, TX FIX | 2100 | 17500
§ 95.3248 RNAV Route T248 Is Amended To Read in Part
GAMBELL, AK DME | QAYAQ, AK WP | 3600 | 17500
§ 95.3250 RNAV Route T250 Is Amended by Adding
GAMBELL, AK DME | KUKULIAK, AK VOR/DME | 3000 | 17500
KUKULIAK, AK VOR/DME | QAYAQ, AK WP | 3700 | 17500
QAYAQ, AK WP | BANAT, AK WP | 3000 | 17500
BANAT, AK WP | AKELT, AK FIX | 3000 | 17500
AKELT, AK FIX | BETHEL, AK VORTAC | 3800 | 17500
Is Amended To Delete
BETHEL, AK VORTAC | AKELT, AK FIX | 3800 | 17500
AKELT, AK FIX | QAYAQ, AK WP | 3000 | 17500
QAYAQ, AK WP | KUKULIAK, AK VOR/DME | 3700 | 17500
§ 95.3492 RNAV Route T492 Is Added To Read
FIINN, FL WP | PMPNO, FL WP | 3000 | 10000
PMPNO, FL WP | WEZER, FL WP | 3000 | 10000
WEZER, FL WP | YOJIX, FL FIX | 3000 | 10000
YOJIX, FL FIX | YONMA, FL FIX | 2200 | 17500
YONMA, FL FIX | * ODDEL, FL FIX | 1800 | 17500
* 2700-MCA ODDEL, FL FIX , E BND
ODDEL, FL FIX | DEARY, FL FIX | 2700 | 17500
§ 95.3494 RNAV Route T494 Is Added To Read
SKWAD, FL WP | TWOON, FL WP | * 3000 | 16000
* 1700-MOCA
§ 95.3545 RNAV Route T545 Is Added To Read
BROWNSVILLE, TX VORTAC | MANNY, TX FIX | 2000 | 17500
MANNY, TX FIX | OPULL, TX FIX | * 2000 | 17500
* 1300-MOCA
OPULL, TX FIX | ASCOT, TX FIX | * 2000 | 17500
* 1500-MOCA
ASCOT, TX FIX | CORPUS CHRISTI, TX VORTAC | 2000 | 17500
CORPUS CHRISTI, TX VORTAC | SLENA, TX FIX | 2000 | 17500
SLENA, TX FIX | YENNS, TX FIX | 2000 | 17500
YENNS, TX FIX | EMBOW, TX FIX | 2400 | 17500
EMBOW, TX FIX | SAN ANTONIO, TX VORTAC | 2900 | 17500
SAN ANTONIO, TX VORTAC | GOBBY, TX FIX | * 3500 | 17500
* 3000-MOCA
GOBBY, TX FIX | AMUSE, TX FIX | 3500 | 17500
AMUSE, TX FIX | BASIS, TX FIX | 3000 | 17500
BASIS, TX FIX | GOOCH SPRINGS, TX VORTAC | 3300 | 17500
§ 95.3797 RNAV Route T797 Is Added To Read
INTERNATIONAL FALLS, MN VOR/DME | U.S. CANADIAN BORDER | 2900 | 17500
§ 95.4000 High Altitude RNAV Routes
§ 95.4182 RNAV Route Q182 Is Added To Read
ST PAUL ISLAND, AK NDB/DME | GARRS, AK WP | * 18000 | 45000
* GNSS REQUIRED
GARRS, AK WP | KING SALMON, AK VORTAC | * 18000 | 45000
* GNSS REQUIRED
§ 95.4436 RNAV Route Q436 Is Amended To Read in Part
KAYYS, MI WP | DIXSN, MI WP | * 18000 | 45000
* 18000-GNSS MEA
* DME/DME/IRU MEA
§ 95.4828 RNAV Route Q828 Is Added To Read
U.S. CANADIAN BORDER | DULUTH, MN VORTAC | * 18000 | 45000
* GNSS REQUIRED
§ 95.4945 RNAV Route Q945 Is Added To Read
DICKINSON, ND VORTAC | U.S. CANADIAN BORDER | * 18000 | 45000
* 18000-GNSS MEA
* DME/DME/IRU MEA
§ 95.4971 RNAV Route Q971 Is Added To Read
MINOT, ND VOR/DME | U.S. CANADIAN BORDER | * 18000 | 45000
* GNSS REQUIRED

From | To | MEA
§ 95.6001 Victor Routes—U.S.
§ 95.6001 VOR Federal Airway V1 Is Amended To Delete
NORFOLK, VA VORTAC | CAPE CHARLES, VA VORTAC | * 2500
* 1800-MOCA |  | MAA-17500
CAPE CHARLES, VA VORTAC | SALISBURY, MD VORTAC | 2000
|  | MAA-17500
SALISBURY, MD VORTAC | WATERLOO, DE VOR/DME | * 2000
* 1500-MOCA |  | MAA-17500
* SALISBURY R-039 UNUSABLE BELOW 5000 MSL
§ 95.6007 VOR Federal Airway V7 Is Amended To Delete
LAKELAND, FL VORTAC | * DADES, FL FIX | ** 2300
* 5000-MRA |  | MAA-17500
** 1800-MOCA
DADES, FL FIX | NITTS, FL FIX | * 2300
* 1800-MOCA |  | MAA-17500
NITTS, FL FIX | * ORATE, FL FIX | ** 3000
* 3000-MRA |  | MAA-17500
** 1700-MOCA
ORATE, FL FIX | CROSS CITY, FL VORTAC | * 2000
* 1500-MOCA |  | MAA-17500
CROSS CITY, FL VORTAC | SEMINOLE, FL VORTAC | 2000 MAA-17500
§ 95.6010 VOR Federal Airway V10 Is Amended To Delete
BURLINGTON, IA VOR/DME | BRADFORD, IL VORTAC | 2600 MAA-17500
BRADFORD, IL VORTAC | PLANO, IL FIX | 3000 MAA-17500
§ 95.6017 VOR Federal Airway V17 Is Amended To Read in Part
COTULLA, TX VORTAC | MILET, TX FIX
| SW BND | 2500
| NE BND | 4000 MAA-17500
SOMER, TX FIX | SAN ANTONIO, TX VORTAC
| N BND | 3000
| S BND | 4000 MAA-17500
§ 95.6029 VOR Federal Airway V29 Is Amended To Delete
SNOW HILL, MD VORTAC | * SALISBURY, MD VORTAC | ** 2000
* 5000-MCA SALISBURY, MD VORTAC , N BND
** 1500-MOCA |  | MAA-17500
SALISBURY, MD VORTAC | * EZIZI, DE FIX | 5000
* 7000-MCA EZIZI, DE WP, N BND
|  | MAA-17500
EZIZI, DE FIX | * LAFLN, DE FIX | ** 7000
* 7000-MCA LAFLN, DE WP, S BND
|  | MAA-17500
**5000-GNSS MEA
LAFLN, DE FIX | SMYRNA, DE VORTAC | 1800 MAA-17500
§ 95.6030 VOR Federal Airway V30 Is Amended To Read in Part
SQUIB, MI FIX | PULLMAN, MI VOR/DME | UNUSABLE
§ 95.6035 VOR Federal Airway V35 Is Amended To Delete
ST PETERSBURG, FL VORTAC | ENDED, FL FIX | 2500
|  | MAA-17500
ENDED, FL FIX | CROSS CITY, FL VORTAC | * 3000
* 1500-MOCA |  | MAA-17500
CROSS CITY, FL VORTAC | GREENVILLE, FL VORTAC | 2000 MAA-17500
GREENVILLE, FL VORTAC | * SALER, GA FIX | UNUSABLE
* 3000-MRA
SALER, GA FIX | PECAN, GA VOR/DME | * 2000
* 1700-MOCA |  | MAA-17500
§ 95.6037 VOR Federal Airway V37 Is Amended To Read in Part
CRAIG, FL VORTAC | BRUNSWICK, GA VORTAC | 2000 MAA-17500
§ 95.6038 VOR Federal Airway V38 Is Amended by Adding
HARCUM, VA VORTAC | LNSKY, VA FIX | 2000 MAA-17500
Is Amended To Delete
HARCUM, VA VORTAC | CAPE CHARLES, VA VORTAC | 2000 MAA-17500
§ 95.6045 VOR Federal Airway V45 Is Amended To Read in Part
PULASKI, VA VORTAC | BLUEFIELD, WV VOR/DME | 6300 MAA-17500
§ 95.6068 VOR Federal Airway V68 Is Amended To Delete
SAN ANTONIO, TX VORTAC | * BRAUN, TX FIX | 3100
* 5500-MRA |  | MAA-17500
BRAUN, TX FIX | MARCS, TX FIX | 3100
|  | MAA-17500
MARCS, TX FIX | CRAYS, TX WP | * 2900
* 2000-MOCA |  | MAA-17500
CRAYS, TX FIX | INDUSTRY, TX VORTAC | 2600 MAA-17500
§ 95.6084 VOR Federal Airway V84 Is Amended To Read in Part
PIVOT, IL FIX | JYBEE, MI FIX | UNUSABLE
JYBEE, MI FIX | PULLMAN, MI VOR/DME | UNUSABLE
§ 95.6129 VOR Federal Airway V129 Is Amended To Delete
INTERNATIONAL FALLS, MN VOR/DME | U.S. CANADIAN BORDER | 2500 MAA-17500
§ 95.6137 VOR Federal Airway V137 Is Amended To Read in Part
PALMDALE, CA VORTAC | VICKY, CA FIX | * 8000
* 6500-MOCA |  | MAA-17500
§ 95.6139 VOR Federal Airway V139 Is Amended by Adding
PEARS, NC FIX | BERTI, NC FIX | * 6000
* 2100-GNSS MEA |  | MAA-17500
BERTI, NC FIX | WINAL, NC FIX
| NE BND | * 4000
| SW BND | * 6000
* 1700-MOCA |  | MAA-17500
WINAL, NC FIX | NPTUN, NC FIX | * 4000
* 1700-MOCA |  | MAA-17500
NPTUN, NC FIX | NORFOLK, VA VORTAC | 2100
|  | MAA-17500
NORFOLK, VA VORTAC | LNSKY, VA FIX | * 3000
* 1800-MOCA |  | MAA-17500
LNSKY, VA FIX | BEEEG, MD FIX | * 4000
* 1600-MOCA |  | MAA-17500
BEEEG, MD FIX | RADDS, DE FIX
| NE BND | * 3000
| SW BND | * 4000
* 1700-MOCA |  | MAA-17500
RADDS, DE FIX | SEA ISLE, NJ VORTAC | * 3000
* 1700-MOCA |  | MAA-17500
Is Amended To Delete
PEARS, NC FIX | SUNNS, NC FIX | * 6000
* 2100-MOCA |  | MAA-17500
* 2100-GNSS MEA
SUNNS, NC FIX | NORFOLK, VA VORTAC
| NE BND | * 2500
| SW BND | * 4800
* 1600-MOCA |  | MAA-17500
* 2000-GNSS MEA
NORFOLK, VA VORTAC | CAPE CHARLES, VA VORTAC | * 2500
* 1800-MOCA |  | MAA-17500
CAPE CHARLES, VA VORTAC | DUNFE, VA FIX
| NE BND | * 4000
| SW BND | * 2000
* 1600-MOCA |  | MAA-17500
DUNFE, VA FIX | SNOW HILL, MD VORTAC | * 4000
* 1600-MOCA |  | MAA-17500
SNOW HILL, MD VORTAC | CBEAV, MD FIX | 2000 MAA-17500
CBEAV, MD FIX | SEA ISLE, NJ VORTAC | * 2500
* 1700-MOCA |  | MAA-17500
Is Amended To Read in Part
PROVIDENCE, RI VOR/DME | * INNDY, MA FIX | ** 5500
* 5500-MRA
** 1700-MOCA |  | MAA-17500
** 2000-GNSS MEA
§ 95.6156 VOR Federal Airway V156 Is Amended To Delete
MOLINE, IL VOR/DME | BRADFORD, IL VORTAC | 2800 MAA-17500
BRADFORD, IL VORTAC | PEOTONE, IL VORTAC | 2700 MAA-17500
§ 95.6157 VOR Federal Airway V157 Is Amended by Adding
OCALA, FL VORTAC | * LEJKO, FL FIX | 2000
* 3000—MRA |  | MAA-17500
LEJKO, FL FIX | GATORS, FL VORTAC | 2000 MAA-17500
GATORS, FL VORTAC | * TAALR, FL FIX | ** 3000
* 3000-MCA TAALR, FL FIX , S BND
** 1600-MOCA |  | MAA-17500
TAALR, FL FIX | WAYCROSS, GA VORTAC | 2300
|  | MAA-17500
WAYCROSS, GA VORTAC | DUBLIN, GA VORTAC | 2000 MAA-17500
Is Amended To Delete
OCALA, FL VORTAC | TAYLOR, FL VORTAC | 2000 MAA-17500
TAYLOR, FL VORTAC | WAYCROSS, GA VORTAC | 2300 MAA-17500
§ 95.6159 VOR Federal Airway V159 Is Amended To Delete
OCALA, FL VORTAC | * PERSE, FL FIX | 2000
* 3000-MRA |  | MAA-17500
PERSE, FL FIX | * WILON, FL WP | 2000
* 3000-MRA |  | MAA-17500
WILON, FL WP | CROSS CITY, FL VORTAC | 2000 MAA-17500
CROSS CITY, FL VORTAC | GREENVILLE, FL VORTAC | 2000 MAA-17500
§ 95.6161 VOR Federal Airway V161 Is Amended To Delete
THREE RIVERS, TX VORTAC | LEMIG, TX FIX | 2000 MAA-17500
LEMIG, TX FIX | CENTER POINT, TX VORTAC | 4100
|  | MAA-17500
§ 95.6163 VOR Federal Airway V163 Is Amended by Adding
CORPUS CHRISTI, TX VORTAC | SKIDS, TX FIX | 1900 MAA-17500
SKIDS, TX FIX | SLENA, TX FIX | * 3000
* 1900-MOCA |  | MAA-17500
SLENA, TX FIX | SAN ANTONIO, TX VORTAC | 3000 MAA-17500
Is Amended To Delete
CORPUS CHRISTI, TX VORTAC | SINTO, TX FIX | 1800 MAA-17500
SINTO, TX FIX | THREE RIVERS, TX VORTAC | 2000 MAA-17500
THREE RIVERS, TX VORTAC | YENNS, TX FIX
| S BND | 2000
| N BND | 3000 MAA-17500
YENNS, TX FIX | SAN ANTONIO, TX VORTAC | * 3000
* 2500-MOCA |  | MAA-17500
§ 95.6198 VOR Federal Airway V198 Is Amended by Adding
GREENVILLE, FL VORTAC | HADDE, FL FIX | 2000 MAA-17500
HADDE, FL FIX | TAALR, FL FIX | * 3000
* 1600-MOCA |  | MAA-17500
TAALR, FL FIX | * MONIA, GA FIX | ** 7000
* 7000-MRA
* 7000-MCA MONIA, GA FIX, W BND
** 1600-MOCA |  | MAA-17500
MONIA, GA FIX | CRAIG, FL VORTAC | * 3000
* 2100-MOCA |  | MAA-17500
Is Amended To Delete
GREENVILLE, FL VORTAC | TAYLOR, FL VORTAC | 2000 MAA-17500
TAYLOR, FL VORTAC | CRAIG, FL VORTAC | * 3000
* 2100-MOCA |  | MAA-17500
§ 95.6212 VOR Federal Airway V212 Is Amended To Delete
INDUSTRY, TX VORTAC | NAVASOTA, TX VOR/DME | 2200 MAA-17500
§ 95.6222 VOR Federal Airway V222 Is Amended To Delete
STONEWALL, TX VORTAC | MARCS, TX FIX | 4500 MAA-17500
MARCS, TX FIX | CRAYS, TX FIX | * 2900
* 2000-MOCA |  | MAA-17500
CRAYS, TX FIX | INDUSTRY, TX VORTAC | 2600 MAA-17500
INDUSTRY, TX VORTAC | SEALY, TX FIX | 2100 MAA-17500
SEALY, TX FIX | HUMBLE, TX VORTAC | 2000 MAA-17500
§ 95.6262 VOR Federal Airway V262 Is Amended To Delete
PEORIA, IL VORTAC | BRADFORD, IL VORTAC | 2700 MAA-17500
BRADFORD, IL VORTAC | MOTIF, IL FIX | 2700 MAA-17500
MOTIF, IL FIX | JOLIET, IL VOR/DME | * 3000
* 2300-MOCA |  | MAA-17500
§ 95.6268 VOR Federal Airway V268 Is Amended To Read in Part
SANDY POINT, RI VOR/DME | * INNDY, MA FIX | 2100
* 5500-MRA
|  | MAA-17500
§ 95.6274 VOR Federal Airway V274 Is Amended To Read in Part
PULLMAN, MI VOR/DME | VICTORY, MI VOR/DME | UNUSABLE
§ 95.6286 VOR Federal Airway V286 Is Amended To Delete
BROOKE, VA VORTAC | * ZUNAR, VA FIX | ** 3000
* 5000-MCA ZUNAR, VA WP, SE BND
|  | MAA-17500
** 2000-GNSS MEA
ZUNAR, VA FIX | FAGED, VA FIX | * 5000 MAA-17500
* 2000-GNSS MEA
FAGED, VA FIX | GWYNN, VA FIX | 2000 MAA-17500
GWYNN, VA FIX | CAPE CHARLES, VA VORTAC | * 2000
* 1500-MOCA |  | MAA-17500
§ 95.6303 VOR Federal Airway V303 Is Amended To Read in Part
HOT SPRINGS, AR VOR/DME | BLURB, AR FIX
| NW BND | * 5000
| SE BND | * 3500
* 3100-MOCA |  | MAA-17500
BLURB, AR FIX | BLIMP, AR FIX
| NW BND | * 4100
| SE BND | * 5000
* 3700-MOCA |  | MAA-17500
§ 95.6466 VOR Federal Airway V466 Is Amended To Read in Part
VOLUNTEER, TN VORTAC | TAMPI, TN FIX | 3600 MAA-17500
TAMPI, TN FIX | FARLI, TN FIX | 4500 MAA-17500
FARLI, TN FIX | YUMMY, VA FIX | UNUSABLE
YUMMY, VA FIX | GLADE SPRING, VA VOR/DME | 6400 MAA-17500
GLADE SPRING, VA VOR/DME | * DORFF, VA FIX | * 6900
* 7000-MRA
|  | MAA-17500
* GLADE SPRING R-078 UNUSABLE USE PULASKI R-263
DORFF, VA FIX | PULASKI, VA VORTAC | 6200 MAA-17500
§ 95.6472 VOR Federal Airway V472 Is Amended To Read in Part
ELIZABETH CITY, NC VOR/DME | WINAL, NC FIX | * 4000
* 1600-MOCA |  | MAA-17500
WINAL, NC FIX | BERTI, NC FIX
| NE BND | * 4000
| SW BND | * 6000
* 1700-MOCA |  | MAA-17500
BERTI, NC FIX | * ZAGGY, NC FIX | ** 6000
* 6000-MCA ZAGGY, NC FIX , NE BND
|  | MAA-17500
** 2100-GNSS MEA
§ 95.6519 VOR Federal Airway V519 Is Amended To Read in Part
VOLUNTEER, TN VORTAC | TAMPI, TN FIX | 3600 MAA-17500
TAMPI, TN FIX | FARLI, TN FIX | 4500 MAA-17500
FARLI, TN FIX | YUMMY, VA FIX | UNUSABLE
YUMMY, VA FIX | GLADE SPRING, VA VOR/DME | 6400 MAA-17500
GLADE SPRING, VA VOR/DME | * TELOC, VA FIX | ** 9900
* 13000-MRA
** 6900-MOCA |  | MAA-17500
** GLADE SPRING R-058 UNUSABLE USE BLUEFIELD R-239
TELOC, VA FIX | BLUEFIELD, WV VOR/DME
| NE BND | 6600
| SW BND | 9900 MAA-17500
§ 95.6532 VOR Federal Airway V532 Is Amended To Read in Part
BLURB, AR FIX | BLIMP, AR FIX
| NW BND | * 4100
| SE BND | * 5000
* 3700-MOCA |  | MAA-17500
§ 95.6550 VOR Federal Airway V550 Is Amended To Read in Part
COTULLA, TX VORTAC | MILET, TX FIX
| SW BND | 2500
| NE BND | 4000 MAA-17500
MILET, TX FIX | SAN ANTONIO, TX VORTAC | 3000 MAA-17500
§ 95.6558 VOR Federal Airway V558 Is Amended To Delete
CENTEX, TX VORTAC | MOUZE, TX FIX | 2200 MAA-17500
MOUZE, TX FIX | INDUSTRY, TX VORTAC | 2100 MAA-17500
§ 95.6568 VOR Federal Airway V568 Is Amended To Delete
CORPUS CHRISTI, TX VORTAC | THREE RIVERS, TX VORTAC | 2000 MAA-17500
THREE RIVERS, TX VORTAC | LEMIG, TX FIX | 2000 MAA-17500
LEMIG, TX FIX | SAN ANTONIO, TX VORTAC | 3000 MAA-17500
§ 95.6574 VOR Federal Airway V574 Is Amended To Read in Part
CENTEX, TX VORTAC | NAVASOTA, TX VOR/DME | 2400 MAA-17500
§ 95.6414 Alaska VOR Federal Airway V414 Is Amended To Delete
GAMBELL, AK NDB/DME | KUKULIAK, AK VOR/DME | 3000 MAA-17500
§ 95.6619 Alaska VOR Federal Airway V619 Is Amended To Delete
PORT HEIDEN, AK NDB/DME | CHINOOK, AK NDB | 4000 MAA-17500
CHINOOK, AK NDB | DILLINGHAM, AK VOR/DME | 3000 MAA-17500

From | To | MEA | MAA
§ 95.7001 Jet Routes
§ 95.7026 Jet Route J26 Is Amended To Delete
KIRKSVILLE, MO VORTAC | BRADFORD, IL VORTAC | 18000 | 45000
BRADFORD, IL VORTAC | JOLIET, IL VOR/DME | 18000 | 45000
§ 95.7064 Jet Route J64 Is Amended To Delete
LAMONI, IA VOR/DME | BRADFORD, IL VORTAC | 18000 | 45000
BRADFORD, IL VORTAC | FORT WAYNE, IN VORTAC | 18000 | 45000
§ 95.7181 Jet Route J181 Is Amended To Delete
HALLSVILLE, MO VORTAC | BAYLI, IL FIX | 18000 | 23000
BAYLI, IL FIX | BRADFORD, IL VORTAC | 18000 | 45000
§ 95.7483 Jet Route J483 Is Amended To Delete
MINOT, ND VOR/DME | U.S. CANADIAN BORDER | 18000 | 45000
§ 95.7538 Jet Route J538 Is Amended To Delete
U.S. CANADIAN BORDER | DULUTH, MN VORTAC | 18000 | 45000
§ 95.7562 Jet Route J562 Is Amended To Delete
DICKINSON, ND VORTAC | U.S. CANADIAN BORDER | 18000 | 45000
§ 95.7606 Jet Route J606 Is Amended To Delete
ST PAUL ISLAND, AK NDB/DME | CHINOOK, AK NDB | 18000 | 45000

Airway Segment: From | Airway Segment: To | Changeover Points: Distance | Changeover Points: From
§ 95.8003 VOR Federal Airway Changeover Point
V139 Is Amended To Delete Changeover Point
CAPE CHARLES, VA VORTAC | SNOW HILL, MD VORTAC | 38 | CAPE CHARLES
SNOW HILL, MD VORTAC | SEA ISLE, NJ VORTAC | 25 | SNOW HILL
V159 Is Amended To Delete Changeover Point
OCALA, FL VORTAC | CROSS CITY, FL VORTAC | 28 | OCALA
V286 Is Amended To Delete Changeover Point
BROOKE, VA VORTAC | CAPE CHARLES, VA VORTAC | 22 | BROOKE

[FR Doc. 2025-13281 Filed 7-15-25; 8:45 am]

BILLING CODE 4910-13-P